DEPARTMENT OF THE INTERIOR

Bureau of Land Management

[BLM_NV_FRN_MO#4540000406; NVNV-106316914]

Public Land Order No. 7953; Withdrawal Revocation; Restoration of Public Lands; Transfer Into Trust; Nevada

AGENCY: Bureau of Land Management, Interior.

ACTION: Public Land Order.

SUMMARY: This order revokes in part a withdrawal created by a Secretary's Order dated November 26, 1906, which withdrew all lands within one mile of the high-water mark of Walker Lake in Mineral County, Nevada and reserved them for the Bureau of Reclamation's Truckee-Carson Project. The Bureau of Reclamation (BOR) no longer needs 109.60 acres for project purposes. The Bureau of Land Management (BLM) has evaluated the lands and determined they are suitable for return to the public domain. In addition, this order permanently withdraws and transfers 69.60 of the 109.60 acres, as well as 103.65 acres of other public lands, as an addition to the Walker River Indian Reservation under the authority of the Act of June 22, 1936.

DATES: This Public Land Order (PLO) takes effect on December 10, 2024.

FOR FURTHER INFORMATION CONTACT: Joseph Palma, BLM Stillwater Field Office, (775) 885-6131 or jpalma@blm.gov during regular business hours, 8 a.m. to 4:30 p.m. Mountain Time, Monday through Friday, except holidays. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: These 109.60 acres were included as part of the larger Truckee-Carson Project withdrawal established by a Secretary's Order dated November 26, 1906, which withdrew all lands within one mile of the high-water mark of Walker Lake in Mineral County, Nevada. The subject lands were omitted from the legal description in a Secretary's Order dated May 25, 1942, that revoked the 1906 withdrawal order. These lands are no longer needed by the BOR for project purposes. The BLM has determined the lands are suitable for return to the public domain.

In addition, the Western Regional Office of the Bureau of Indian Affairs (BIA) submitted an application for the BLM to process on behalf of the Secretary for the permanent withdrawal and transfer of some of these lands, once restored, into trust as an addition to the Walker River Indian Reservation under the authority of Public Law 74-748 (49 Stat. 1806), dated June 22, 1936 (1936 Act). By this Order, the Secretary is restoring the relinquished lands to the public domain and transfering 69.60 acres of the restored lands, as well as 103.65 acres of other public lands, that are surrounded by Reservation lands into trust for the Walker River Paiute Tribe as an addition to the Reservation under the 1936 Act. Forty acres of the restored lands overlap a previous withdrawal for the Reservation; these acres transfer to Tribal management by operation of law upon Secretarial revocation of the 1906 withdrawal.

Order

By virtue of the authority vested in the Secretary of the Interior by section 204 of the Federal Land Policy and Management Act of 1976, 43 U.S.C. 1714 and Public Law 74-748 (49 Stat. 1806), dated June 22, 1936, it is ordered as follows:

1. The withdrawal created by Secretary's Order dated November 26, 1906, is hereby revoked in part as to the following described lands:

Mount Diablo Meridian, Nevada

T. 12 N., R. 28 E.,

sec. 25, lot 4.

T. 11 N., R. 29 E.,

sec. 9, NE1/4SW1/4;

sec. 18, NE1/4NE1/4.

The areas described aggregate 109.60 acres.

2. Subject to valid existing rights, the following described public lands and reserved public minerals are hereby permanently withdrawn from settlement, sale, location, and entry under the general land laws, including the United States mining laws, mineral and geothermal leasing laws, and disposal under the mineral materials laws, and jurisdiction over such lands and minerals is hereby permanently transferred to the Bureau of Indian Affairs to be held in trust, in perpetuity, for the benefit of the Walker River Paiute Tribe as an addition to the Walker River Indian Reservation, under the authority of Public Law 74-748 (49 Stat. 1806). The lands are described as follows:

Mount Diablo Meridian, Nevada

T. 12 N., R. 28 E.,

sec. 25, lot 4.

T. 11 N., R. 29 E.,

sec. 18, NE1/4NE1/4.

T. 12 N., R. 29 E.,

sec. 27, lots 1 and 2, and SE1/4SE1/4.

The areas described aggregate 173.25 acres.

(Authority: 43 U.S.C. 1714 and Public Law 74-748, June 22, 1936)

Robert T. Anderson,
Solicitor.

[FR Doc. 2024-28949 Filed 12-9-24; 8:45 am]

BILLING CODE 4331-21-P